DEPARTMENT OF EDUCATION

Final Priority; Rehabilitation Research and Training Center on Vocational Rehabilitation and Developing Strategies To Meet Employer Needs in Changing Economic Environments

AGENCY: Office of Special Education and Rehabilitative Services, Department of Education.

ACTION: Notice.

Overview Information: CFDA Number: 84.133B-1. Final priority; National Institute on Disability and Rehabilitation Research (NIDRR)—Disability and Rehabilitation Research Projects and Centers Program—Rehabilitation Research and Training Center (RRTCs) on Vocational Rehabilitation (VR) and Developing Strategies to Meet Employer Needs in Changing Economic Environments.

SUMMARY: The Assistant Secretary for Special Education and Rehabilitative Services announces a priority for the Disability and Rehabilitation Research Projects and Centers Program administered by NIDRR. Specifically, this priority is for an RRTC on VR and developing strategies to meet employer needs in changing economic environments. The Assistant Secretary may use this priority for competitions in fiscal year (FY) 2012 and later years. We take this action to focus research attention on areas of national need. We intend this priority to improve employment outcomes for individuals with disabilities.

DATES: Effective Date: This priority is effective August 13, 2012.

FOR FURTHER INFORMATION CONTACT: Marlene Spencer, U.S. Department of Education, 400 Maryland Avenue SW., Room 5133, Potomac Center Plaza (PCP), Washington, DC 20202-2700. Telephone: (202) 245-7532 or by email: marlene.spencer@ed.gov.

If you use a telecommunications device for the deaf (TDD) or a text telephone (TTY), call the Federal Relay Service (FRS), toll free, at 1-800-877-8339.

SUPPLEMENTARY INFORMATION: This notice of final priority (NFP) is in concert with NIDRR's currently approved Long-Range Plan (Plan). The Plan, which was published in the Federal Register on February 15, 2006 (71 FR 8165), can be accessed on the Internet at: www.ed.gov/about/offices/list/osers/nidrr/policy.html.

By implementing the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice announces a final priority that NIDRR intends to use for an RRTC competition in FY 2012 and possibly later years. However, nothing precludes NIDRR from publishing additional priorities, if needed. Furthermore, NIDRR is under no obligation to make an award for this priority. The decision to make an award will be based on the quality of applications received and available funding.

Purpose of Program

The purpose of the Disability and Rehabilitation Research Projects and Centers Program is to plan and conduct research, demonstration projects, training, and related activities, including international activities; to develop methods, procedures, and rehabilitation technology that maximize the full inclusion and integration into society, employment, independent living, family support, and economic and social self-sufficiency of individuals with disabilities, especially individuals with the most severe disabilities; and to improve the effectiveness of services authorized under the Rehabilitation Act of 1973, as amended (Rehabilitation Act).

Rehabilitation Research and Training Centers (RRTCs)

The purpose of the RRTCs, which are funded through the Disability and Rehabilitation Research Projects and Centers Program, is to improve the effectiveness of services authorized under the Rehabilitation Act, through advanced research, training, technical assistance, and dissemination activities in general problem areas, as specified by NIDRR. Such activities are designed to benefit rehabilitation service providers, individuals with disabilities, and the family members or other authorized representatives of individuals with disabilities. Additional information on the RRTC program can be found at: www.ed.gov/rschstat/research/pubs/res-program.html#RRTC.

Statutory and Regulatory Requirements of RRTCs

RRTCs must—

• Carry out coordinated and advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must also demonstrate in their applications how they will address, in whole or in part, the needs of individuals with disabilities from minority backgrounds.

Program Authority: 29 U.S.C. 762(g) and 764(b)(2).

Applicable Program Regulations: 34 CFR part 350.

We published a notice of proposed priority for this program in the Federal Register on May 8, 2012 (77 FR 27035). That notice contained background information and our reasons for proposing this particular priority.

Public Comment: In response to our invitation in the notice of proposed priority, one party submitted comments on the proposed priority.

Generally, we do not address technical and other minor changes. In addition, we do not address general comments that raised concerns not directly related to the proposed priority.

Analysis of Comments and Changes: An analysis of the comments and of any changes in the priority since publication of the notice of proposed priority follows.

Comment: The commenter asked whether under the priority, the RRTC could conduct research on employer demand strategies in countries outside of the United States.

Discussion: RRTCs are funded under the Disability and Rehabilitation Research Projects and Centers program. The regulations for this program (34 CFR 350.2) indicate that its purpose is to plan and conduct research, demonstration projects, training, and related activities, including international activities. This RRTC must conduct research that contributes to identifying effective VR practices that take into account economic conditions, labor market trends, and employer needs. Nothing in the priority precludes the RRTC from conducting research on employer demand strategies in countries outside of the United States, so long as the results of the research are generalizable to the workforce needs and expectations of potential employers of individuals receiving services from State VR agencies and can be used to contribute to the intended outcomes of the priority.

Changes: None.

Comment: The commenter asked whether under the priority, the RRTC could conduct research activities with an employer or industry.

Discussion: This RRTC must conduct research that contributes to identifying effective VR practices that take into account economic conditions, labor market trends, and employer needs. Nothing in the priority precludes the RRTC from conducting research with an employer or industry, so long as the results of the research can be used to contribute to the intended outcomes of the priority.

Changes: None.

Comment: The commenter asked how NIDRR distinguishes between research and development activities. The commenter also asked how NIDRR defines a development activity.

Discussion: Descriptions of research and development activities are provided in the regulations for NIDRR's Disability and Rehabilitation Research Projects program. These regulations apply to a broad range of NIDRR's grant mechanisms, including RRTCs, and describe a research activity as an “intensive systematic study directed toward new or full scientific knowledge, or understanding of the subject or problem studied.” 34 CFR 350.13. The regulations describe a development activity as using “knowledge and understanding gained from research to create materials, devices, systems, or methods beneficial to the target population, including the design and development of prototypes and processes.” 34 CFR 350.16.

Changes: None.

Comment: The commenter stated that the outcome on improved training and continuing education for VR professionals in paragraph (c) of the priority appears to limit the target audience to State VR agencies and asked NIDRR to consider expanding it to include rehabilitation service vendors, employers, and people with disabilities. The commenter also noted that such an expansion may better align with the research requirements listed under paragraph (b) of this priority.

Discussion: The purpose of this priority, as conveyed in the opening paragraph, is to conduct research that will generate new knowledge about effective practices that can be used by State VR agencies to better serve their customers, including individuals with disabilities and their employers. Consistent with this purpose, paragraph (c) requires that the new knowledge be used to develop and disseminate materials that will improve training and continuing education on effective practices that can be used by VR State agencies in responding to workforce needs in a changing economy. Therefore, expanding paragraph (c) to engage in activities that improve the training and continuing education of professionals outside of the State VR system is beyond the scope of this priority.

Changes: Our review of the priority in response to this comment indicated that paragraph (b) did not make clear that the focus of the intended outcome is improving services and strategies utilized by State VR agencies. Therefore, we have edited the opening sentence of paragraph (b) by adding the words “utilized by State VR agencies” to the end of the sentence.

Comment: None.

Discussion: The Department is committed to ensuring that all Department-sponsored Web sites and documents posted to them are accessible to individuals with disabilities. We inadvertently neglected to add such a requirement in the NPP.

Changes: NIDRR has amended paragraph (c) to require the RRTC's Web site, as well as documents posted on its Web site, to meet government or industry-recognized standards for accessibility.

Final Priority

Priority—Rehabilitation Research and Training Center (RRTC) on Vocational Rehabilitation and Developing Strategies To Meet Employer Needs in Changing Economic Environments

The Assistant Secretary for Special Education and Rehabilitative Services announces a priority for a Rehabilitation Research and Training Center (RRTC) on Vocational Rehabilitation (VR) and Developing Strategies to Meet Employer Needs in Changing Economic Environments. This RRTC must conduct research that contributes to identifying effective VR practices that take into account economic conditions, labor market trends, and employer needs. This RRTC will contribute to improved employment outcomes by generating new knowledge about effective practices that can be used by State VR agencies in serving their customers, including both program participants and employers. Under this priority, the RRTC must contribute to the following outcomes:

(a) New knowledge to improve responsiveness of VR agencies to employer workforce needs in a changing economy. The RRTC must contribute to this outcome by conducting research or development activities on effective ways for State VR agencies to assess employer needs and expectations in the changing economic environment in which businesses operate. The RRTC must conduct research to identify or develop effective strategic planning models that will support State VR agency efforts to anticipate and prepare for changing employer and labor market needs. In addition, the RRTC must conduct research to identify existing programs, e.g., Workforce Investment Act “Rapid Response” programs, that may be useful in helping VR agencies mitigate the impact of changing economic conditions. These research or development activities must include identifying methods of tracking, analyzing, and reacting to changing employer needs, including those related to economic conditions, such as analyses of labor market trends and analyses of projected growth areas.

(b) Improved job training, development, and placement services and strategies utilized by State VR agencies. The RRTC must contribute to this outcome by conducting research to identify or develop effective service delivery models that take into account current and future employer workforce needs, including needed job skills. Components of these models may include, but are not limited to: Employer partnerships to facilitate the identification of employer needs; incorporation of employer needs in planning job development, placement, and retention strategies; training opportunities to provide individuals with disabilities with skills that match employer needs; and strategic planning processes designed to respond to changing employer and economic needs.

(c) Improved training and continuing education for VR professionals. The RRTC must contribute to this outcome by developing and disseminating materials that incorporate findings from the research and development activities conducted under paragraphs (a) and (b) of this priority. These materials must be developed for use by State VR agencies to improve their ability to use information generated to develop strategies and services that will better meet the needs of employers in the context of local and regional economic and labor market conditions and to increase employment outcomes for VR participants. If the RRTC maintains a Web site with the purpose of disseminating these materials, the Web site must meet government or industry-recognized standards for accessibility. Documents posted on the RRTC Web site must meet the accessibility standards set out at: http://www2.ed.gov/internal/internalguidelines.html.

In addition, through coordination with the NIDRR Project Officer, this RRTC must—

(1) Collaborate with RSA's Regional Technical Assistance Network, including Regional Technical Assistance and Continuing Education (TACE) Centers to disseminate new knowledge to VR State agency personnel and key stakeholders; and

(2) Collaborate with NIDRR grantees that are conducting work relevant to this RRTC.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action would not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

Summary of Potential Costs and Benefits

The benefits of the Disability and Rehabilitation Research Projects and Centers Programs have been well established over the years in that similar projects have been completed successfully. This final priority will generate new knowledge through research and development.

Another benefit of this final priority is that the establishment of a new RRTC will improve the lives of individuals with disabilities. The new RRTC will generate, disseminate, and promote the use of new information that will contribute to improved employment outcomes for individuals with disabilities.

Accessible Format: Individuals with disabilities can obtain this document in an accessible format (e.g., braille, large print, audiotape, or computer disc) by contacting the Grants and Contracts Services Team, U.S. Department of Education, 400 Maryland Avenue SW., Room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: July 10, 2012.
Alexa Posny,
Assistant Secretary for Special Education and Rehabilitative Services.

[FR Doc. 2012-17186 Filed 7-12-12; 8:45 am]

BILLING CODE 4000-01-P